DEPARTMENT OF COMMERCE

International Trade Administration

[A-602-812, A-351-862, A-122-871, A-201-863, A-421-818, A-791-829, A-583-878, A-489-855, A-520-811, A-552-843]

Certain Corrosion-Resistant Steel Products From Australia, Brazil, Canada, Mexico, the Netherlands, South Africa, Taiwan, the Republic of Türkiye, the United Arab Emirates, and the Socialist Republic of Vietnam: Postponement of Preliminary Determinations in the Less-Than-Fair-Value Investigations

AGENCY: Enforcement and Compliance, International Trade Administration, Department of Commerce.

DATES: Applicable January 28, 2025.

FOR FURTHER INFORMATION CONTACT: Krisha Hill at (202) 482-4037 (Australia), Benjamin Blythe at (202) 482-3457 (Canada), Nathan Araya at (202) 482-3401 (Brazil), William Horn at (202) 482-4868 (Mexico), Rachel Jennings at (202) 482-1110 and Miranda Bourdeau at (202) 482-2021 (the Netherlands), Jacob Saude at (202) 482-0981 (South Africa), Monique Cummings at (202) 482-3996 and Preston Cox at (240) 956-8630 (Taiwan), Brittany Bauer at (202) 482-3860 and Olivia Woolverton at (202) 482-2000 (the Republic of Türkiye (Türkiye), Lingjun Wang at (202) 482-2316 and Jose Riviera at (202) 482-0842 (the United Arab Emirates (UAE)), and Jacob Waddell at (202) 482-1369 (the Socialist Republic of Vietnam (Vietnam)), AD/CVD Operations, Enforcement and Compliance, International Trade Administration, U.S. Department of Commerce, 1401 Constitution Avenue NW, Washington, DC 20230.

SUPPLEMENTARY INFORMATION:

Background

On September 25, 2024, the U.S. Department of Commerce (Commerce) initiated less-than-fair-value (LTFV) investigations of imports of certain corrosion-resistant steel products (CORE) from Australia, Brazil, Canada, Mexico, the Netherlands, South Africa, Taiwan, Türkiye, the UAE, and Vietnam.¹ Currently, the preliminary determinations are due no later than February 12, 2025.

¹ See Certain Corrosion-Resistant Steel Products from Australia, Brazil, Canada, Mexico, the Netherlands, South Africa, Taiwan, the Republic of Türkiye, the United Arab Emirates, and the Socialist Republic of Vietnam: Initiation of Less-Than-Fair-Value Investigations, 89 FR 80196 (October 2, 2024).

Postponement of Preliminary Determinations

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On January 10, 2025, the petitioners ² submitted timely requests that Commerce postpone the preliminary determinations in the LTFV investigations of CORE from Australia, Brazil, Canada, Mexico, the Netherlands, South Africa, Taiwan, Türkiye, the UAE, and Vietnam.³ The petitioners stated, “{p}ostponement of the preliminary determinations is necessary and appropriate given the size and complexity of these investigations, the number of participating respondents, and the numerous extensions of time received by respondents to submit responses to Commerce's initial questionnaire,” and that the postponement “will allow Commerce adequate time to issue supplemental questionnaires and develop a comprehensive record in these investigations.” ⁴

² The petitioners are Steel Dynamics, Inc., Nucor Corporation, United States Steel Corporation, Wheeling-Nippon Steel, Inc., and the United Steel, Paper and Forestry, Rubber, Manufacturing, Energy, Allied Industrial and Service Workers International Union, AFL-CIO, CLC.

³ See Petitioners' Letter, “Postponement of the Preliminary Determinations,” dated January 10, 2025.

⁴ Id. at 2.

For the reasons stated above, and because there are no compelling reasons to deny the request, in accordance with section 733(c)(1)(A) of the Act and 19 CFR 351.205(e), Commerce is postponing the deadline for the preliminary determinations by 50 days (i.e., to 190 days after the date on which these investigations were initiated). As a result, Commerce will issue its preliminary determinations in the above-referenced investigations no later than April 3, 2025. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: January 21, 2025.
Abdelali Elouaradia,
Deputy Assistant Secretary For Enforcement and Compliance.

[FR Doc. 2025-01791 Filed 1-27-25; 8:45 am]

BILLING CODE 3510-DS-P